ADVISORY COUNCIL ON HISTORIC PRESERVATION

Meeting Regarding the Proposed World War II Memorial on the National Mall

AGENCY: Advisory Council on Historic Preservation.

ACTION: Announcement of meeting.

SUMMARY: A panel of members from the Advisory Council on Historic Preservation will hold a meeting to consider the formal comments it will provide regarding the adverse effects that the proposed World War II Memorial will have on the historic qualities of West Potomac Park, a property listed on the National Register of Historic Places. The resulting formal comments will be submitted to the Secretary of the Interior, pursuant to Section 106 of the National Historic Preservation Act.

DATES: The meeting date is August 28, 2000, starting at 1 p.m.

ADDRESSES: The meeting will take place at the Department of the Interior Auditorium, 1849 C Street, NW., Washington, DC.

FOR FURTHER INFORMATION CONTACT: Martha Catlin, 202-606-8503.

SUPPLEMENTARY INFORMATION: In its review pursuant to Section 106 of the National Historic Preservation Act, the National Park Service has determined that the construction of the World War II Memorial on the National Mall will adversely affect the historic qualities of West Potomac Park, a property listed on the National Register of Historic Places. The Chairman of the Advisory Council on Historic Preservation (Council) has determined that further consultation regarding this project will not be productive, and that the Council will therefore proceed with formal comments. As part of its deliberations in formulating such comments, a panel of Council members will meet as noted above. The Council members comprising the panel will be: Cathryn Buford Slater (Chairman of the Council), Stephen Hand (Vice Chairman of the Council), Bruce D. Judd (expert member), and Paul W. Fiddick (designee of the Department of Agriculture).

This meeting is open to the public. The panel will consider both written and oral statements from the public. Written statements should be submitted, on or before August 24, 2000, to the Executive Director, Advisory Council on Historic Preservation, 1100 Pennsylvania Ave., NW., Suite 809, Washington, DC 20004. Persons wishing to make oral statements at the meeting should notify Martha Catlin, on or before August 24, 2000, at 202-606-8503.

If you need accommodations due to a disability, please contact the Advisory Council on Historic Preservation, 1100 Pennsylvania Ave., NW., Room 809, Washington, DC, 202-606-8503.

Established by the National Historic Preservation Act (NHPA), the Advisory Council on Historic Preservation is an independent Federal agency that provides a forum for influencing Federal activities, programs, and policies as they affect historic resources. Section 106 of the NHPA requires Federal agencies to take into account the effects of their undertakings on historic properties and afford the Advisory Council a reasonable opportunity to comment on such undertakings.

(Authority: 36 CFR 800.7)

Dated: August 15, 2000.
John M. Fowler,
Executive Director.

[FR Doc. 00-21159 Filed 8-18-00; 8:45 am]

BILLING CODE 4310-10-M